DEPARTMENT OF HEALTH AND HUMAN SERVICES

National Institutes of Health

Notice of Establishment

The Secretary of Health and Human Services (HHS) has determined that the establishment of the National Science Advisory Board for Biosecurity (Committee) is necessary and in the public interest in connection with the duties of the Administration and that such duties can best be performed through the advice and counsel of such a group.

This Committee shall advise the Secretary of Health and Human Services; the Director, National Institutes of Health; and the heads of all federal departments and agencies that conduct or support life sciences research. The Committee will advise on and recommend specific strategies for the efficient and effective oversight of dual use biological research, taking into consideration both national security concerns and the needs of the research community.

The Committee will be composed of not more than 25 voting, non-government subject matter experts, as well as ex officio members from federal departments and agencies that conduct or support life science research. Members will be appointed by the Secretary, HHS, in consultation with the heads of federal departments and agencies represented on the Committee in ex officio capacity.

Unless renewed by appropriate action prior to its expiration, the Charter for the National Science Advisory Board for Biosecurity will expire two years from the date of establishment.

Dated: March 15, 2004.
Elias A. Zerhouni,
Director, National Institutes of Health.

[FR Doc. 04-6355 Filed 3-22-04; 8:45 am]

BILLING CODE 4140-01-M